DEPARTMENT OF COMMERCE

National Oceanic and Atmospheric Administration

Joint Subcommittee on Ocean Science and Technology Interagency Working Group on Ocean and Coastal Mapping

ACTION: Notice of public workshop.

SUMMARY: The Interagency Working Group on Ocean and Coastal Mapping (IWG-OCM), established under the governance of the Joint Subcommittee on Ocean Science and Technology (JSOST), will host a workshop from Tuesday, February 26, 2008, until Thursday, February 28, 2008, to support the development of a National Ocean and Coastal Mapping Strategic Action Plan. Participation is by invitation only; however, plenary sessions will be open to the public.

Dates and Times: The public plenary sessions will be on Tuesday, February 26, 2008, from 9 a.m.-5 p.m. and on Thursday, February 28, 2008, from 9 a.m.-1 p.m.

Location: Florida Atlantic University SeaTech Campus, Auditorium (Room 205), 101 North Beach Road, Dania Beach, Florida 33004.

FOR FURTHER INFORMATION CONTACT: Persons interested in obtaining additional information including a workshop agenda should visit http://www.csc.noaa.gov/iwg/ or contact Carol Jeffords or Tricia Gibbons at 703-642-0972.

SUPPLEMENTARY INFORMATION: In response to the findings of the U.S. Ocean Action Plan, JSOST established the IWG-OCM in 2006. This interagency working group—co-chaired by the U.S. Army Corps of Engineers, National Oceanic and Atmospheric Administration, U.S. Geological Survey, and Minerals Management Service—seeks to avoid duplication of mapping ocean and coastal mapping activities and facilitate the coordination and leveraging of mapping resources across the federal sector and with state, industry, academic, and non-governmental organization mapping interests. The workshop will bring together individuals from federal mapping agencies, non-federal mapping interests, and stakeholders to frame a Strategic Action Plan designed to expand, improve, and/or develop (a) coordination and partnerships; (b) data collection, availability, dissemination, interoperability, and standardization; and (c) products and tools required of ocean and coastal geospatial data users.

The public plenary sessions are accessible to people with physical disabilities. Public comment periods will be scheduled at the end of the day's deliberations on Tuesday and Thursday. Each individual or group wishing to make a verbal presentation will be limited to a total time of five (5) minutes. Approximately fifteen (15) seats will be available for the public on a first-come, first-served basis.

Dated: February 4, 2008.
Captain Steven Barnum,
Director, Office of Coast Survey.

[FR Doc. E8-2753 Filed 2-13-08; 8:45 am]

BILLING CODE 3510-JE-P